DEPARTMENT OF COMMERCE

International Trade Administration

[C-533-858]

Oil Country Tubular Goods From India: Final Results of Countervailing Duty Administrative Review; 2022

AGENCY: Enforcement and Compliance, International Trade Administration, Department of Commerce.

SUMMARY: The U.S. Department of Commerce (Commerce) determined that countervailable subsidies are being provided to producers and exporters of oil country tubular goods (OCTG) from India. The period of review (POR) is January 1, 2022, through December 31, 2022.

DATES: Applicable May 13, 2025.

FOR FURTHER INFORMATION CONTACT: Thomas Cloyd, AD/CVD Operations, Office VII, Enforcement and Compliance, International Trade Administration, U.S. Department of Commerce, 1401 Constitution Avenue NW, Washington, DC 20230; telephone: (202) 482-1246.

SUPPLEMENTARY INFORMATION:

Background

On October 10, 2024, Commerce published the Preliminary Results of this administrative review in the Federal Register and invited comments from interested parties.¹ We received no comments from interested parties on the Preliminary Results, and we made no changes from the Preliminary Results. Accordingly, no decision memoranda accompany this Federal Register notice; the Preliminary Results are hereby adopted as these final results. Commerce conducted this administrative review in accordance with section 751 of the Tariff Act of 1930, as amended (the Act).

¹ See Oil Country Tubular Goods from India: Preliminary Results of Countervailing Duty Administrative Review; 2022, 89 FR 82225 (October 10, 2024) (Preliminary Results), and accompanying Preliminary Decision Memorandum (PDM).

Scope of the Order ²

² See Certain Oil Country Tubular Goods from India and the Republic of Turkey: Countervailing Duty Orders and Amended Affirmative Final Countervailing Duty Determination for India, 79 FR 53688 (September 10, 2014) (Order).

The product covered by this Order is OCTG from India. For a complete description of the scope of the Order, see the Preliminary Results.

Final Results of Review

We determine that the following net countervailable subsidy exists for the period January 1, 2022, through December 31, 2022:

Producer/exporter | Subsidy rate (percent ad valorem)
Surya Roshni Limited | 2.31

Disclosure

Normally, Commerce discloses to interested parties the calculations of the final results of an administrative review within five days of a public announcement or, if there is no public announcement, within five days of the date of publication of the notice of final results in the Federal Register, in accordance with 19 CFR 351.224(b). However, because we have made no changes to the Preliminary Results, there are no calculations to disclose.

Assessment Rates

Pursuant to sections 751(a)(1) of the Tariff Act of 1930, as amended (the Act) and 19 CFR 351.212(b)(2), Commerce shall determine, and U.S. Customs and Border Protection (CBP) shall assess, countervailing duties on all appropriate entries of subject merchandise in accordance with the final results of this review.

Commerce intends to issue assessment instructions to CBP no earlier than 35 days after the date of publication of the final results of this review in the Federal Register. If a timely summons is filed at the U.S. Court of International Trade, the assessment instructions will direct CBP not to liquidate relevant entries until the time for parties to file a request for statutory injunction has expired (i.e., within 90 days of publication).

Cash Deposit Requirements

In accordance with sections 751(a)(1) of the Act, Commerce also intends to instruct CBP to collect cash deposits of estimated countervailing duties in the amounts shown for the company above on shipments of subject merchandise entered, or withdrawn from warehouse, for consumption on or after the date of publication of the final results of this administrative review. For all non-reviewed firms, we will instruct CBP to continue to collect cash deposits of estimated countervailing duties at the all-others rate or the most recent company-specific rate applicable to the company, as appropriate. These cash deposit instructions, effective upon publication of these final results, shall remain in effect until further notice.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

Notification to Interested Parties

These results are being issued and published in accordance with sections 751(a)(1) and 777(i)(1) of the Act and 19 CFR 351.221(b)(5).

Dated: May 5, 2025.
Abdelali Elouaradia,
Deputy Assistant Secretary for Enforcement and Compliance.

[FR Doc. 2025-08340 Filed 5-12-25; 8:45 am]

BILLING CODE 3510-DS-P